DEPARTMENT OF AGRICULTURE

Notice of Request for Extension or Renewal of a Currently Approved Information Collection; Correction

AGENCY: Department of Agriculture.

ACTION: Notice; correction.

SUMMARY: The Department of Agriculture published a document in the Federal Register of April 24, 2017, to request a renewal to a currently approved information collection for race, ethnicity, and gender along with comments. The document contained the wrong OMB number.

FOR FURTHER INFORMATION CONTACT: Anna G. Stroman (202) 205-5953.

Correction

In the Federal Register of April 24, 2017, in FR Doc 2017-08151, on page 18889, under the Supplementary Information, correct the OMB No. to read:

SUPPLEMENTARY INFORMATION: OMB No. 0503-0019.

Dated: April 26, 2017.
Winona Lake Scott,
Acting Deputy Assistant Secretary for Civil Rights.

[FR Doc. 2017-08847 Filed 5-1-17; 8:45 am]

BILLING CODE P